DEPARTMENT OF DEFENSE

Department of the Navy

Notice of Redesignation of the Environmental Impact Statement To Transition FA-18C Strike Fighter Squadrons to FA-18E Strike Fighter Squadrons at Naval Air Station Oceana, Virginia, as an Environmental Assessment and Announcement of Public Meetings

AGENCY: Department of the Navy, DoD.

ACTION: Notice.

SUMMARY: The Department of Navy's (DoN) intent to prepare an Environmental Impact Statement (EIS) for the transition of the remaining F/A-18A/C/D (Hornet) aircraft, based at Naval Air Station (NAS) Oceana, to the F/A-18E/F (Super Hornet), published in the Federal Register on September 10, 2015 (80 FR 175), is hereby modified. The DoN is redesignating the EIS as an Environmental Assessment (EA). The DoN will hold public meetings on August 29 and 30, 2017, to inform the public and answer questions about the Draft EA and the proposed action as well as provide opportunities for the public to comment on the Draft EA.

SUPPLEMENTARY INFORMATION: Pursuant to the National Environmental Policy Act of 1969 and regulations implemented by the Council on Environmental Quality, the DoN published a Notice of Intent to prepare an EIS to transition Hornet aircraft to Super Hornet aircraft at NAS Oceana on September 10, 2015, in the Federal Register (80 FR 175). The majority of aircraft based at NAS Oceana transitioned to Super Hornet over a decade ago (as part of a separate proposed action), and are currently conducting flight training operations at NAS Oceana and Naval Auxiliary Landing Field (NALF) Fentress. The purpose of transitioning the remaining Hornet aircraft to Super Hornet aircraft is to provide newer, more capable, and more reliable aircraft to the NAS Oceana-based strike fighter community, which are needed to support the Navy's national defense requirements under Title 10 U.S. Code Section 5062.

During the development of the EIS, the DoN's analysis showed no significant environmental impacts. This is because Super Hornet flight training is nearly identical to Hornet flight training. Consequently, there would be little to no change to the type and quantity of flight training operations at NAS Oceana and NALF Fentress as a result of the transition. The analysis also showed there would be only minor noise increases in a few areas; however, no increases would be greater than 1.6 decibels (dB) Day-Night Average Sound Level (DNL). A 3 dB DNL or less change in noise levels is barely perceptible to the human ear. No significant environmental impacts were identified for the other resources analyzed in the EA, including air quality, public health and safety, environmental justice, land use, biological resources, and cultural resources. Accordingly, the DoN announces to public the redesignation of the EIS as an EA for this action.

With this redesignation of the EIS as an EA, the DoN is initiating a 30-day public review and comment period on the Draft EA beginning on August 16, 2017 and ending on September 15, 2017. The Draft EA is available at the following link: http://www.oceanastrikefighter.com. A printed copy and an electronic copy of the Draft EA have also been placed in the following libraries:

1. Great Neck Area Library, 1251 Bayne Drive, Virginia Beach, Virginia 23454.

2. Meyera E. Oberndorf Central Library, 4100 Virginia Beach Boulevard, Virginia Beach, Virginia 23452.

3. Oceanfront Area Library, 700 Virginia Beach Boulevard, Virginia Beach, Virginia 23451.

4. Princess Ann Area Library, 1444 Nimmo Parkway, Virginia Beach, Virginia 23456.

5. Wahab Public Law Library, 2425 Nimmo Parkway, Judicial Center, Bldg 10B, Virginia Beach, Virginia 23456.

6. Windsor Wood Area Library, 3612 South Plaza Trail, Virginia Beach, Virginia 23452.

7. Chesapeake Central Library, 298 Cedar Road, Chesapeake, Virginia 23322.

8. Greenbrier Library, 1214 Volvo Parkway, Chesapeake, Virginia 23320.

The DoN will hold public meetings to inform the public and answer questions about the Draft EA and the proposed action as well as provide opportunities for the public to comment on the Draft EA. Federal, state, and local agencies and officials, Native American Indian Tribes and Nations, and interested organizations and individuals are encouraged to provide comments in person at the public meetings or in writing during the 30-day public review period. Two public meetings will be held from 5:00 p.m. to 7:00 p.m. on:

1. Tuesday, August 29, 2017, at the Columbian Club, 1236 Prosperity Road, Virginia Beach, Virginia 23451.

2. Wednesday, August 30, 2017, at the Hickory Ruritan Club, 2752 Battlefield Boulevard South, Chesapeake, Virginia 23322.

The public meetings will be open house sessions with informational poster stations. Members of the public will have the opportunity to ask questions of DoN representatives and subject matter experts. Attendees will also be able to provide verbal comments to a stenographer or submit written comments during the public meetings. In addition to participating in the public meetings, members of the public may submit comments via the U.S. Postal Service using the mailing address identified in the contact information later in this notice or electronically using the project Web site (http://www.oceanastrikefighter.com). All comments made at the public meetings, or postmarked or received online by September 15, 2017, will become part of the public record and be considered in the Final EA.

The DoN may release the city, state, and 5-digit zip code of individuals who provide comments during the Draft EA public review and comment period. However, the names, street addresses, email addresses and screen names, telephone numbers, or other personally identifiable information of those individuals will not be released by the DoN unless required by law. Prior to each commenter making verbal comments to the stenographer at the public meetings the commenter will be asked whether he or she agrees to a release of their personally identifiable information. Those commenters submitting written comments, either using comment forms or via the project Web site, will be asked whether they authorize release of personally identifiable information by checking a “release” box.

FOR FURTHER INFORMATION CONTACT: NAS Oceana Strike Fighter Transition EA Project Manager (Code EV21/TW); Naval Facilities Engineering Command Atlantic, 6506 Hampton Boulevard, Norfolk, Virginia 23508.

Dated: August 7, 2017.
A.M. Nichols,
Lieutenant Commander, Judge Advocate General's Corps, U.S. Navy, Federal Register Liaison Officer.

[FR Doc. 2017-17142 Filed 8-14-17; 8:45 am]

BILLING CODE 3810-FF-P